DEPARTMENT OF COMMERCE

INTERNATIONAL TRADE ADMINISTRATION

(A-570-956)

Certain Seamless Carbon and Alloy Steel Standard, Line, and Pressure Pipe from the People's Republic of China: Postponement of Preliminary Determination of Antidumping Duty Investigation

AGENCY: Import Administration, International Trade Administration, Department of Commerce

EFFECTIVE DATE: February 8, 2010.

FOR FURTHER INFORMATION CONTACT: Magd Zalok or Zev Primor, AD/CVD Operations, Office 4, Import Administration, International Trade Administration, U.S. Department of Commerce, 14th Street and Constitution Avenue, NW, Washington, DC 20230; telephone: (202) 482-4162 or (202) 482-4114, respectively.

SUPPLEMENTARY INFORMATION:

Postponement of Preliminary Determination

On October 6, 2009, the Department of Commerce (the Department) initiated the antidumping duty investigation on certain seamless carbon and alloy steel standard, line, and pressure pipe from the People's Republic of China. See Certain Seamless Carbon and Alloy Steel Standard, Line, and Pressure Pipe From the People's Republic of China: Initiation of Antidumping Duty Investigation, 74 FR 52744 (October 14, 2009) (Initiation Notice). The notice of initiation stated that, unless postponed, the Department would make its preliminary determination in this antidumping duty investigation no later than 140 days after the date of the initiation.

On January 22, 2009, the Petitioners¹ made a timely request pursuant to 19 CFR 351.205(e) for a 50-day postponement of the preliminary determination in this investigation. The Petitioners requested postponement of the preliminary determination to allow adequate time to analyze the submitted information.

1. The Petitioners in this investigation are United States Steel Corporation, V&M Star L.P., TMK IPSCO, and United Steel, Paper and Forestry, Rubber, Manufacturing, Energy, Allied Industrial and Service Workers International Union.

For the reasons identified by the Petitioners, and because there are no compelling reasons to deny the request, the Department is postponing this preliminary determination under section 733(c)(1)(A) of the Tariff Act of 1930, as amended (the Act) by 50 days from February 23, 2010 to April 14, 2010. The deadline for the final determination will continue to be 75 days after the date of the preliminary determination, unless extended.

This notice is issued and published pursuant to sections 733(c)(2) and 777(i)(1) of the Act, and 19 CFR 351.205(f)(1).

Dated: February 1, 2010.
Carole Showers,
Acting Deputy Assistant Secretary for Policy and Negotiations.

[FR Doc. 2010-2696 Filed 2-5-10; 8:45 am]

BILLING CODE 3510-DS-S